OVERSEAS PRIVATE INVESTMENT CORPORATION

Africa Investment Council Meeting; Sunshine Act

TIME AND DATE: Thursday, May 22, 2003, 9:30 a.m. (open portion), 10 a.m. (closed portion).

PLACE: Offices of the Corporation, Twelfth Floor Europe Room, 1100 New York Avenue, NW., Washington, DC.

STATUS: Meeting open to the public from 9:30 a.m. to 10 a.m. Closed portion will commence at 10 a.m. (approx.).

MATTERS TO BE CONSIDERED: 1. Welcome & introductory remarks.

2. Administrative issues.

FURTHER MATTERS TO BE CONSIDERED: (Closed to the public 10 a.m.)

1. Reports.

Due to unforeseen circumstances this notice is published less than 15 days prior to the meeting. (41 CFR 102-3.150(b)).

Contact Person for Information: Information on the meeting may be obtained from Marysue K. Shore at (202) 336-8630.

Dated: May 14, 2002.
Marysue K. Shore,
Senior Advisor to the President and Director, African Affairs, Overseas Private Investment Corporation.

[FR Doc. 03-12529 Filed 5-14-03; 4:49 pm]

BILLING CODE 3210-01-M